FEDERAL COMMUNICATIONS COMMISSION

47 CFR Parts 20 and 25

[CC Docket No. 94-102, IB Docket No. 99-67; FCC 03-290]

Scope of Enhanced 911 Requirements

AGENCY: Federal Communications Commission.

ACTION: Final rule.

SUMMARY: In this document, the Commission revises the scope of its enhanced 911 rules to clarify which technologies and services will be required to be capable of transmitting enhanced 911 information to public safety answering points (PSAP). As many citizens, elected representatives, and public safety personnel recognize, 911 service is critical to our Nation's ability to respond to a host of crises and this document enhances the Nation's ability to do so.

DATES: Effective April 12, 2004, with the exception of new rule § 25.284 which will become effective February 11, 2005.

FOR FURTHER INFORMATION CONTACT: Greg Guice, Policy Division, Wireless Telecommunications Bureau, at (202) 418-0095, or David Siehl, Policy Division, Wireless Telecommunications Bureau, at (202) 418-1310, or Arthur Lechtman, Satellite Division, International Bureau, at (202) 418-1465, or Marcy Greene, Competition Policy Division, Wireline Competition Bureau, at (202) 418-2410.

SUPPLEMENTARY INFORMATION: This is a summary of the Report and Order adopted on November 13, 2003, and released on December 1, 2003. The full text of the Report and Order is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone (202) 863-2893, facsimile (202) 863-2898, or via e-mail qualexint@aol.com.

I. Overview

1. In the Report and Order, the Commission addresses the obligation of mobile satellite services, telematics services, multi-line telephone systems, resold and pre-paid service, and disposable phones to provide enhanced 911 (E911) capabilities. Its analysis includes a discussion of the four criteria set out in the E911 Scope Further Notice of Proposed Rulemaking, 68 FR 3214 (January 23, 2003), released on December 20, 2002, and its understanding of whether the particular service meets those criteria as informed by the substantial record developed in the course of the proceeding. In addition, the Commission bases its determination on other criteria that may mitigate its need to impose a requirement on a particular service.

2. Mobile satellite service (MSS) carriers that provide interconnected two-way voice service must establish call centers for the purpose of answering 911 emergency calls and forwarding these calls to an appropriate PSAP. In addition, the Commission directs the rechartered Network Reliability and Interoperability Council to study a number of issues pertaining to MSS enhanced 911 deployment.

3. Telematics providers that offer a commercial wireless service may have E911 obligations and need to work with the underlying licensees to ensure that E911 requirements are met. Those providers that do not offer such services, while they do not have an obligation, should continue their efforts with industry and public safety stakeholders to implement advanced telematics safety capabilities.

4. Although the Commission will not adopt federal rules at this time requiring multi-line telephone systems (MLTS) operators to implement E911, it expects that states will act expeditiously on this topic. The Order also references the Model Legislation filed in the record by public safety organizations as a valuable guide. The Commission also issues a Second Further Notice of Proposed Rulemaking to continue its consideration of this issue, and to ensure that it is in a position to take appropriate action should states fail to do so or should it otherwise be warranted. Additionally, the Commission will issue a public notice in a year to examine states' progress on implementing E911 in this area.

5. Resold and pre-paid mobile wireless service providers have an independent obligation to comply with our 911 rules to the extent that the underlying licensee has deployed the technology necessary to deliver enhanced 911 service.

6. The Commission finds it is unnecessary to place a separate obligation on manufacturers of disposable phones or personal data assistants that contain a voice service component because the obligation for ensuring access to enhanced 911 service is with the wireless service provider, and they are responsible for ensuring that the devices used with their service satisfy their 911 obligations.

7. Automated maritime telecommunications systems (AMTS) are not required to comply with the Commission's rules because their service fails to meet the four criteria.

8. The Commission believes that these decisions represent a balanced approach, which takes into consideration the expectations of consumers, the need to strengthen Americans' ability to access public safety in times of crisis, and the needs of entities offering these services to be able to compete in a competitive marketplace.

II. Final Regulatory Flexibility Analysis

9. As required by the Regulatory Flexibility Act of 1980, as amended (RFA), an Initial Regulatory Flexibility Analysis (IRFA) was incorporated in the Revision of the Commission's rules to Ensure Compatibility With Enhanced 911 Emergency Calling Systems Further Notice of Proposed Rulemaking, 66 FR 31878 (June 13, 2001). The Commission sought written public comment on the proposal in the Further Notice of Proposed Rulemaking, including comment on the IRFA. This present Final Regulatory Flexibility Analysis (FRFA) conforms to the RFA.

A. Need for, and Objectives of, Adopted Rules

10. In the Report and Order, the Commission modifies existing rules to broaden the scope of those rules to include new services that were either not in existence or were just beginning to emerge at the time of the rules' adoption. Specifically, the Commission, through the Report and Order, modifies its 911 rules to include within the scope of those rules certain mobile satellite service providers and resellers, including pre-paid calling card providers. The Commission takes this action in recognition of Congress' directive to “facilitate the prompt deployment throughout the United States of a seamless, ubiquitous, and reliable end-to-end infrastructure for communications, including wireless communications, to meet the Nation's public safety and other communications needs.” In addition, the Commission takes these actions to ensure consumers' expectations regarding access to enhanced 911 service are met, and to strengthen Americans' ability to access public safety. It has balanced those goals against the needs of entities offering these services to be able to compete in a competitive marketplace.

B. Summary of Significant Issues Raised by Public Comments in Response to the IRFA

11. We received no comments directly in response to the IRFA in this proceeding. The Commission, however, considered the potential impact of its rules on smaller wireless service providers and in response to concerns expressed by some commenters, we adopted phase-in periods and decided in the case of certain small wireless handset manufacturers, such as disposable phone manufacturers, and smaller wireless service providers, such as automated maritime telecommunications service providers, not to impose an obligation at this time. The Commission believes that such actions should ensure that smaller entities operating in these areas are able to do so with minimal regulatory interference.

C. Description and Estimate of the Number of Small Entities To Which the Adopted Rules Will Apply

12. The RFA directs agencies to provide a description of and, where feasible, an estimate of the number of small entities that may be affected by the adopted rules, if adopted. The RFA generally defines the term “small entity” as having the same meaning as the terms “small business,” “small organization,” and “small governmental jurisdiction.” In addition, the term “small business” has the same meaning as the term “small business concern” under section 3 of the Small Business Act. Under the Small Business Act, a “small business concern” is one that: (i) Is independently owned and operated; (ii) is not dominant in its field of operation; and (iii) satisfies any additional criteria established by the Small Business Administration (SBA). A small organization is generally “any not-for-profit enterprise which is independently owned and operated and is not dominant in its field.”

13. We have included small incumbent local exchange carriers in this present RFS analysis. As noted above, a “small business” under the RFA is one that, inter alia, meets the pertinent small business size standard (e.g., a telephone communications business, having 1,500 or fewer employees), and “is not dominant in its field of operation.” The SBA's Office of Advocacy contends that, for RFA purposes, small incumbent local exchange carriers are not dominant in their field of operation because any such dominance is not “national” in scope.

14. Incumbent Local Exchange Carriers. Neither the Commission nor the SBA has developed a specific small business size standard for providers of incumbent local exchange services. The closest applicable size standard under the SBA rules is for Wired Telecommunications Carriers. Under that standard, such a business is small if it has 1,500 or fewer employees. According to the FCC's Telephone Trends Report data, 1,337 incumbent local exchange carriers reported that they were engaged in the provision of local exchange services. Of these 1,337 carriers, an estimated 1,032 have 1,500 or fewer employees and 305 have more than 1,500 employees. Consequently, we estimate that the majority of providers of local exchange service are small entities that may be affected by the rules and policies adopted herein.

15. Competitive Local Exchange Carriers. Neither the Commission nor the SBA has developed a specific small business size standard for providers of competitive local exchange services. The closest applicable size standard under the SBA rules is for Wired Telecommunications Carriers. Under that standard, such a business is small if it has 1,500 or fewer employees. According to the FCC's Telephone Trends Report data, 609 companies reported that they were engaged in the provision of either competitive access provider services or competitive local exchange carrier services. Of these 609 companies, an estimated 458 have 1,500 or fewer employees and 151 have more than 1,500 employees. Consequently, the Commission estimates that the majority of providers of competitive local exchange service are small entities that may be affected by the rules.

16. Competitive Access Providers. Neither the Commission nor the SBA has developed a specific size standard for competitive access providers (CAPS). The closest applicable standard under the SBA rules is for Wired Telecommunications Carriers. Under that standard, such a business is small if it has 1,500 or fewer employees. According to the FCC's Telephone Trends Report data, 609 CAPs or competitive local exchange carriers and 35 other local exchange carriers reported that they were engaged in the provision of either competitive access provider services or competitive local exchange carrier services. Of these 609 competitive access providers and competitive local exchange carriers, an estimated 458 have 1,500 or fewer employees and 151 have more than 1,500 employees. Of the 35 other local exchange carriers, an estimated 34 have 1,500 or fewer employees and one has more than 1,500 employees. Consequently, the Commission estimates that the majority of small entity CAPS and the majority of other local exchange carriers may be affected by the rules.

17. Local Resellers. The SBA has developed a specific size standard for small businesses within the category of Telecommunications Resellers. Under that standard, such a business is small if it has 1,500 or fewer employees. According to the FCC's Telephone Trends Report data, 133 companies reported that they were engaged in the provision of local resale services. Of these 133 companies, an estimated 127 have 1,500 or fewer employees and 6 have more than 1,500 employees. Consequently, the Commission estimates that the majority of local resellers may be affected by the rules.

18. Toll Resellers. The SBA has developed a specific size standard for small businesses within the category of Telecommunications Resellers. Under that SBA definition, such a business is small if it has 1,500 or fewer employees. According to the FCC's Telephone Trends Report data, 625 companies reported that they were engaged in the provision of toll resale services. Of these 625 companies, an estimated 590 have 1,500 or fewer employees and 35 have more than 1,500 employees. Consequently, the Commission estimates that a majority of toll resellers may be affected by the rules.

19. Interexchange Carriers. Neither the Commission nor the SBA has developed a specific size standard for small entities specifically applicable to providers of interexchange services. The closest applicable size standard under the SBA rules is for Wired Telecommunications Carriers. Under that standard, such a business is small if it has 1,500 or fewer employees. According to the FCC's Telephone Trends Report data, 261 carriers reported that their primary telecommunications service activity was the provision of interexchange services. Of these 261 carriers, an estimated 223 have 1,500 or fewer employees and 38 have more than 1,500 employees. Consequently, we estimate that a majority of interexchange carriers may be affected by the rules.

20. Operator Service Providers. Neither the Commission nor the SBA has developed a specific size standard for small entities specifically applicable to operator service providers. The closest applicable size standard under the SBA rules is for Wired Telecommunications Carriers. Under that standard, such a business is small if it has 1,500 or fewer employees. According to the FCC's Telephone Trends Report data, 23 companies reported that they were engaged in the provision of operator services. Of these 23 companies, an estimated 22 have 1,500 or fewer employees and one has more than 1,500 employees. Consequently, the Commission estimates that a majority of local resellers may be affected by the rules.

21. Prepaid Calling Card Providers. The SBA has developed a size standard for small businesses within the category of Telecommunications Resellers. Under that size standard, such a business is small if it has 1,500 or fewer employees. According to the FCC's Telephone Trends Report data, 37 companies reported that they were engaged in the provision of prepaid calling cards. Of these 37 companies, an estimated 36 have 1,500 or fewer employees and one has more than 1,500 employees. Consequently, the Commission estimates that a majority of prepaid calling providers may be affected by the rules.

22. Mobile Satellite Service Carriers. Neither the Commission nor the U.S. Small Business Administration has developed a small business size standard specifically for mobile satellite service licensees. The appropriate size standard is therefore the SBA standard for Satellite Telecommunications, which provides that such entities are small if they have $12.5 million or less in annual revenues. Currently, nearly a dozen entities are authorized to provide voice MSS in the United States. We have ascertained from published data that four of those companies are not small entities according to the SBA's definition, but we do not have sufficient information to determine which, if any, of the others are small entities. We anticipate issuing several licenses for 2 GHz mobile earth stations that would be subject to the requirements we are adopting here. We do not know how many of those licenses will be held by small entities, however, as we do not yet know exactly how many 2 GHz mobile-earth-station licenses will be issued or who will receive them. The Commission notes that small businesses are not likely to have the financial ability to become MSS system operators because of high implementation costs, including construction of satellite space stations and rocket launch, associated with satellite systems and services. Still, we request comment on the number and identity of small entities that would be significantly impacted by the proposed rule changes.

23. Other Toll Carriers. Neither the Commission nor the SBA has developed a specific size standard for small entities specifically applicable to “Other Toll Carriers.” This category includes toll carriers that do not fall within the categories of interexchange carriers, operator service providers, prepaid calling card providers, satellite service carriers, or toll resellers. The closest applicable size standard under the SBA rules is for Wired Telecommunications Carriers. Under that standard, such a business is small if it has 1,500 or fewer employees. According to the FCC's Telephone Trends Report data, 92 carriers reported that they were engaged in the provision of “Other Toll Services.” Of these 92 carriers, an estimated 82 have 1,500 or fewer employees and ten have more than 1,500 employees. Consequently, the Commission estimates that a majority of “Other Toll Carriers” may be affected by the rules.

24. Wireless Service Providers. The SBA has developed a size standard for small businesses within the two separate categories of Cellular and Other Wireless Telecommunications and Paging. Under these standards, such a business is small if it has 1,500 or fewer employees. According to the FCC's Telephone Trends Report data, 1,387 companies reported that they were engaged in the provision of wireless service. Of these 1,387 companies, an estimated 945 have 1,500 or fewer employees and 442 have more than 1,500 employees. Consequently, we estimate that a majority of wireless service providers may be affected by the rules.

D. Description of Reporting, Recordkeeping, and Other Compliance Requirements for Small Entities

25. The reporting, recordkeeping, or other compliance requirements adopted require that any and all of the affected entities to which the Commission's adopted rules apply must comply with the Commission's rules adopted in the Report and Order.

26. In paragraph 31 of the Report and Order that addresses mobile satellite systems (MSS), the Commission requires that MSS providers provide Emergency Call Center service to the extent that they offer real-time, two way switched voice service that is interconnected to the public switched network and utilize an in-network switching facility which enables the provider to reuse frequencies and/or accomplish seamless hand-offs of subscriber calls. The Commission declines to mandate specific procedural requirements for this call center service, and instead, is requiring that the Emergency Call Centers be capable of determining the emergency caller's phone number and location. These Call Centers are then required to transfer or redirect the emergency call to an appropriate public safety answering point. At paragraph 37, the Commission determines that although it intends to eventually apply enhanced 911 requirements to MSS providers subject to the foregoing call center requirements, there is not a sufficient basis in the record to require immediate E911 compliance.

27. In the telematics section of the Report and Order at paragraphs 64-90, the Commission declines to require that providers of standard telematics services, i.e., those that do not offer a commercial wireless voice service (CMRS) that connects the telematics user to end users other than the telematics call center, comply with the Commission's E911 requirements. For those telematics providers that do offer CMRS, however, the Commission determines that they may have E911 obligations and will need to work with the underlying wireless carriers, so that regardless of the legal relationship between the carrier and the telematics provider the Commission's E911 requirements can be met.

28. For resellers and pre-paid calling providers, at paragraphs 91-100 of the Report and Order, the Commission decides that they have an independent obligation to comply with the Commission's 911 rules to the extent that the underlying licensee deploys the technology for E911 service. In paragraphs 101-104, the Commission finds that it is unnecessary to impose E911 obligations on manufacturers of disposable phone and personal digital assistants that contain a voice component.

E. Steps Taken To Minimize Significant Economic Impact on Small Entities, and Significant Alternatives Considered

29. The RFA requires an agency to describe any significant alternatives that it has considered in reaching its adopted approach, which may include the following four alternatives (among others): (i) The establishment of differing compliance or reporting requirements or timetables that take into account the resources available to small entities; (ii) the clarification, consolidation, or simplification of compliance or reporting requirements under the rule for small entities; (iii) the use of performance, rather than design, standards; and (iv) an exemption from coverage of the rule, or any part thereof, for small entities.

30. In the Report and Order, the Commission adopted a phase-in period for resellers of wireless service to comply with its rules. This phase-in period was set to allow time for the wholesale price of wireless handsets capable of transmitting the required callback and location information to decline based on economies of scale; and to allow resellers sufficient time to make any necessary changes to their wireless handsets. This alternative will assist all affected licensees, and may be especially helpful to small entities that require more time to comply with the new rules. Additionally, instead of imposing a E911 Phase II requirement on resellers that considered its embedded base of handsets, as it did to licensees, the Commission only places a forward-looking requirement on resellers.

31. By tailoring its rules in this manner, the Commission seeks to fulfill its obligation of ensuring “a seamless, ubiquitous, and reliable end-to-end infrastructure for communications, including wireless communications, to meet the Nation's public safety and other communications needs.”

F. Report to Congress

32. The Commission will send a copy of the Report and Order, including this FRFA, in a report to be sent to Congress pursuant to the Congressional Review Act. In addition, the Commission will send a copy of the Order, including the FRFA, to the Chief Counsel for Advocacy of the Small Business Administration.

III. Ordering Clauses

33. Pursuant to sections 1, 4(i), 7, 10, 201, 202, 208, 214, 222(d)(4)(A)-(C), 222(f), 222(g), 222(h)(1)(A), 222(h)(4)-(5), 251(e)(3), 301, 303, 308, and 310 of the Communications Act of 1934, as amended, 47 U.S.C. 151, 154(i), 157, 160, 201, 202, 208, 214, 222(d)(4)(A)-(C), 222(f), 222(g), 222(h)(1)(A), 222(h)(4)-(5), 251(e)(3), 301, 303, 308, 310, this Report and Order is hereby adopted.

34. The rule changes set forth will become effective April 12, 2004, with the exception of new rule § 25.284 which will become effective February 11, 2005.

35. The Commission's Office of Consumer and Government Affairs, Reference Information Center, shall send a copy of the Report and Order, including the Final Regulatory Flexibility Analysis and the Initial Regulatory Flexibility Analysis, to the Chief Counsel for Advocacy of the Small Business Administration.

List of Subjects 47 CFR Parts 20 and 25

Communications common carriers, satellite communications.

Federal Communications Commission.
William F. Caton,
Deputy Secretary.

Final Rules

For the reasons discussed in the preamble, the Federal Communications Commission amends 47 CFR parts 20 and 25 as follows:

PART 20—COMMERCIAL MOBILE RADIO SERVICES

1. The authority citation for part 20 continues to read as follows:

Authority: 47 U.S.C. 154, 160, 251-254, 303 and 332 unless otherwise noted.

2. Section 20.18 is amended by revising paragraphs (a), (b) and (c), by adding paragraphs (g)(1)(vi) and (m) to read as follows:

§ 20.18 911 Service.

(a) Scope of section. The following requirements are only applicable to Broadband Personal Communications Services (part 24, subpart E of this chapter), Cellular Radio Telephone Service (part 22, subpart H of this chapter), and Geographic Area Specialized Mobile Radio Services and Incumbent Wide Area SMR Licensees in the 800 MHz and 900 MHz bands (included in part 90, subpart S of this chapter) and those entities that offer voice service to consumers by purchasing airtime or capacity at wholesale rates from these licensees, collectively CMRS providers. In addition, service providers in these enumerated services are subject to the following requirements solely to the extent that they offer real-time, two way switched voice service that is interconnected with the public switched network and utilize an in-network switching facility which enables the provider to reuse frequencies and accomplish seamless hand-offs of subscriber calls.

(b) Basic 911 Service. CMRS providers subject to this section must transmit all wireless 911 calls without respect to their call validation process to a Public Safety Answering Point, or, where no Public Safety Answering Point has been designated, to a designated statewide default answering point or appropriate local emergency authority pursuant to § 64.3001 of this chapter, provided that “all wireless 911 calls” is defined as “any call initiated by a wireless user dialing 911 on a phone using a compliant radio frequency protocol of the serving carrier.”

(c) TTY Access to 911 Services. CMRS providers subject to this section must be capable of transmitting 911 calls from individuals with speech or hearing disabilities through means other than mobile radio handsets, e.g., through the use of Text Telephone Devices (TTY).

* * * * *

(g) * * *

(1) * * *

(vi) Licensees that meet the enhanced 911 compliance obligations through GPS-enabled handsets and have commercial agreements with resellers will not be required to include the resellers' handset counts in their compliance percentages.

* * * * *

(m) Reseller obligation. (1) Beginning December 31, 2006, resellers have an obligation, independent of the underlying licensee, to provide access to basic and enhanced 911 service to the extent that the underlying licensee of the facilities the reseller uses to provide access to the public switched network complies with sections 20.18(d)-(g).

(2) Resellers have an independent obligation to ensure that all handsets or other devices offered to their customers for voice communications and sold after December 31, 2006 are capable of transmitting enhanced 911 information to the appropriate PSAP, in accordance with the accuracy requirements of section 20.18(i).

* * * * *

PART 25—SATELLITE COMMUNICATIONS

3. The authority citation for part 25 continues to read as follows:

Authority: 47 U.S.C. 701-744. Interprets or applies Sections 4, 301, 302, 303, 307, 309 and 332 of the Communications Act, as amended, 47 U.S.C. Sections 154, 301, 302, 303, 307, 309 and 332, unless otherwise noted.

4. Section 25.103 is amended by adding paragraph (g) to read as follows:

§ 25.103 Definitions.

* * * * *

(g) Emergency call center (ECC). A facility that subscribers of satellite commercial mobile radio services call when in need of emergency assistance by dialing “911” on their mobile satellite earth terminal.

5. Section 25.284 is added to read as follows:

§ 25.284 Emergency Call Center Service.

Providers of mobile satellite service to end-user customers (part 25, subparts A-D) must provide Emergency Call Center service to the extent that they offer real-time, two way switched voice service that is interconnected with the public switched network and utilize an in-network switching facility which enables the provider to reuse frequencies and/or accomplish seamless hand-offs of subscriber calls. Emergency Call Center personnel must determine the emergency caller's phone number and location and then transfer or otherwise redirect the call to an appropriate public safety answering point. Providers of mobile satellite services that utilize earth terminals that are not capable of use while in motion are exempt from providing Emergency Call Center service for such terminals.

[FR Doc. 04-2124 Filed 2-10-04; 8:45 am]

BILLING CODE 6712-01-U